UNIFIED CARRIER REGISTRATION PLAN

Board of Directors; Request for Nominations

AGENCY: Unified Carrier Registration Plan.

ACTION: Notice.

SUMMARY: The Unified Carrier Registration (UCR) Plan Board of Directors is requesting nominations of qualified individuals for all five of the motor carrier industry positions for appointment by FMCSA to the UCR Plan Board of Directors. The five vacancies have terms which expire on May 31, 2027. The nominees must be representatives from the motor carrier industry. At least one of the five motor carrier industry directors must be from a national trade association representing the general motor carrier of property industry and one of them must be from a motor carrier that falls within the smallest fleet fee bracket.

DATES: Nominations of or expressions of interest by qualified individuals to be considered by the FMCSA for appointment to fill these five vacancies in the Board of Directors of the Unified Carrier Registration Plan, along with accompanying resumes, must be received on or before May 10, 2024.

ADDRESSES: Nominations of or expressions of interest by qualified individuals to be considered by the FMCSA for appointment to the Board of the UCR Plan, along with accompanying resumes, may be received by any of the following methods—internet, regular mail, courier, or hand-delivery.

Mail, Courier, or Hand-Delivery: Unified Carrier Registration Plan, Attention: Matt Mantione, 529 14th Street NW, Suite 1280, Washington, DC 20045. Internet: mmantione@plan.ucr.gov.

FOR FURTHER INFORMATION CONTACT: Elizabeth Leaman, Chair, Unified Carrier Registration Plan Board of Directors, (617) 305-3783, eleaman@board.ucr.gov.

SUPPLEMENTARY INFORMATION:

Background: Section 4305(b) of the Safe, Accountable, Flexible, Efficient Transportation Equity Act: A Legacy for Users (SAFETEA-LU) [Pub. L. 109-59,119 Stat. 1144, August 10, 2005] enacted 49 U.S.C. 14504a, entitled “Unified carrier registration system plan and agreement.” Under the UCR Agreement, motor carriers, motor private carriers, brokers, freight forwarders, and leasing companies that are involved in interstate transportation register and pay certain fees. The UCR Plan's Board of Directors must issue rules and regulations to govern the UCR Agreement.

Section 14504a(a)(9) defines the Unified Carrier Registration Plan as the organization of State, Federal, and industry representatives responsible for developing, implementing, and administering the UCR Agreement. Section 14504a(d)(1)(B) directed the Secretary of Transportation to establish a Unified Carrier Registration Plan Board of Directors made up of 15 members from FMCSA, State Governments, and the motor carrier industry.

The Board also must recommend to the Secretary of Transportation annual fees to be assessed against carriers, leasing companies, brokers, and freight forwarders under the UCR Agreement. Section 14504a(d)(1)(B) provides that the UCR Plan's Board of Directors must consist of directors from the following groups:

Federal Motor Carrier Safety Administration: One director must be selected from each of the FMCSA service areas (as defined by FMCSA on January 1, 2005) from among the chief administrative officers of the State agencies responsible for administering the UCR Agreement.

State Agencies: The five directors selected to represent State agencies must be from among the professional staffs of State agencies responsible for overseeing the administration of the UCR Agreement.

Motor Carrier Industry: Five directors must be from the motor carrier industry.

At least one of the five motor carrier industry directors must be from a national trade association representing the general motor carrier of property industry and one of them must be from a motor carrier that falls within the smallest fleet fee bracket.

U.S. Department of Transportation (the Department): One individual, either the FMCSA Deputy Administrator or such other Presidential appointee from the Department appointed by the Secretary, represents the Department.

The establishment of the Board was announced in the Federal Register on May 12, 2006 (71 FR 27777). This document serves as a notice from the UCR Plan Board of Directors soliciting nominations of and expressions of interest by qualified individuals who are interested in being considered by FMCSA for appointment to the Board as a representative of the motor carrier industry. At least one of the five motor carrier industry directors must be from a national trade association representing the general motor carrier of property industry and one of them must be from a motor carrier that falls within the smallest fleet fee bracket. The term of each of these appointments expires on May 31, 2027.

All nominations of or expressions of interest by qualified individuals received for the five soon to be vacant positions described above and submitted on or before May 10, 2024, will be forwarded to FMCSA. The authority to appoint an individual to fill each of the five vacant positions lies with Secretary of Transportation, which has been delegated to FMCSA.

Nominations and expressions of interest should indicate that the individual nominated or interested meets the statutory requirements specified in 49 U.S.C. 14504a(d)(1)(B). All applications must include a current resume.

The UCR Plan Board may, but is not required to, recommend to FMCSA the appointment of individuals from among the nominations and expressions of interest received. If the Board does make such recommendation(s), it will do so after consideration during an open meeting in compliance with the Government in the Sunshine Act that includes such recommendation(s) as part of the subject matter of the open meeting.

Alex B. Leath,
Chief Legal Officer, Unified Carrier Registration Plan.

[FR Doc. 2024-06517 Filed 3-26-24; 8:45 am]

BILLING CODE 4910-YL-P